DEPARTMENT OF LABOR

Employment and Training Administration

[TA-W-63,830]

Robert Bosch Tool Corporation, Including On-Site Leased Workers From Bartlett Business Services and Salem Tools, Lincolnton, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 20, 2008, applicable to workers of Robert Bosch Tool Corporation, including on-site leased workers of Bartlett Business Services, Lincolnton, North Carolina. The notice was published in the Federal Register on September 3, 2008 (73 FR 51529).

At the request of the State agency, the Department reviewed the certification for workers of the subject firm. The workers are engaged in the production of hand tools.

New information shows that leased workers of Salem Tools were employed on-site at the Cleveland, Ohio location of Robert Bosch Tool Corporation. The Department has determined that this worker was sufficiently under the control of the subject firm.

Based on these findings, the Department is amending this certification to include a leased worker of Salem Tools working on-site at the Lincolnton, North Carolina location of the subject firm.

The intent of the Department's certification is to include all workers employed at Robert Bosch Tool Corporation who were adversely affected by increased imports following a shift in production of hand tools to China.

The amended notice applicable to TA-W-63,830 is hereby issued as follows:

All workers of Robert Bosch Tool Corporation including on-site leased workers from Bartlett Business Services and Salem Tools, Lincolnton, North Carolina, who became totally or partially separated from employment on or after August 5, 2007, through August 20, 2010, are eligible to apply for adjustment assistance under Section 223 of the Trade Act of 1974, and are also eligible to apply for alternative trade adjustment assistance under Section 246 of the Trade Act of 1974.

Signed at Washington, DC this 15th day of October 2008.
Elliott S. Kushner,
Certifying Officer, Division of Trade Adjustment Assistance.

[FR Doc. E8-25464 Filed 10-24-08; 8:45 am]

BILLING CODE 4510-FN-P